DEPARTMENT OF ENERGY

[Docket Nos. EA-291]

Application To Export Electric Energy; Dominion Energy Marketing, Inc.

AGENCY: Office of Fossil Energy, DOE.

ACTION: Notice of application.

SUMMARY: Dominion Energy Marketing, Inc. (DEMI) has applied to export electric energy from the United States to Canada, pursuant to section 202(e) of the Federal Power Act.

DATES: Comments, protests or requests to intervene must be submitted on or before May 24, 2004.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a(e)).

On April 6, 2004, DEMI applied to the Department of Energy (“DOE”) for authority to export electric energy from the United States to Canada. DEMI, a Delaware corporation with its principal place of business in Richmond, Virginia, is a wholly-owned indirect subsidiary of Dominion Resources, Inc. DEMI does not own or control any electric generation or transmission facilities nor does it have a franchised service area. DEMI will be engaged in the marketing of power as both a broker and as a marketer of electric power at wholesale. DEMI proposes to purchase the power that it will export to Canada from Federal power marketing agencies and electric utilities within the United States.

In FE Docket No. EA-291, DEMI proposes to export electric energy to Canada and to arrange for the delivery of those exports to Canada over the international transmission facilities owned by Basin Electric Power Cooperative, Eastern Maine Electric Cooperative, International Transmission Company, Joint Owners of the Highgate Project, Long Sault, Inc., Maine Electric Power Company, Maine Public Service Company, Minnesota Power and Light, Minnkota Power Cooperative, Inc., New York Power Authority, Niagara Mohawk Power Corporation, Northern States Power Company, Vermont Electric Power Company, and Vermont Electric Transmission Company.

The construction of each of the international transmission facilities to be utilized by DEMI has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the DEMI application to export electric energy to Canada should be clearly marked with Docket EA-291. Additional copies are to be filed directly with Michael C. Regulinski, Esquire, Dominion Resources Services, Inc., 120 Tredegar Street, Richmond, VA 23219 and David Martin Connelly, Esquire, Bruder, Gentile and Marcoux, L.L.P., 1701 Pennsylvania Avenue, NW., Suite 900, Washington, DC 20006-5805.

A final decision will be made on this application after the environmental impact has been evaluated pursuant to the National Environmental Policy Act of 1969, and a determination is made by the DOE that the proposed action will not adversely impact on the reliability of the U.S. electric power supply system.

Copies of this application will be made available, upon request, for public inspection and copying at the address provided above or by accessing the Fossil Energy home page at http://www.fe.doe.gov. Upon reaching the Fossil Energy home page, select “Electricity Regulation,” and then “Pending Proceedings” from the options menus.

Issued in Washington, DC, on April 20, 2004.
Anthony Como,
Deputy Director, Electric Power Regulation, Office of Coal & Power Import/Export, Office of Coal & Power Systems, Office of Fossil Energy.

[FR Doc. 04-9275 Filed 4-22-04; 8:45 am]

BILLING CODE 6450-01-P